NATIONAL AERONAUTICS AND SPACE ADMINISTRATION

[Notice: 024-037]

NASA Advisory Council; Aeronautics Committee; Meeting.

AGENCY: National Aeronautics and Space Administration.

ACTION: Notice of meeting.

SUMMARY: In accordance with the Federal Advisory Committee Act, the National Aeronautics and Space Administration (NASA) announces a meeting of the Aeronautics Committee of the NASA Advisory Council (NAC). This meeting will be held for the purpose of soliciting, from the aeronautics community and other persons, research and technical information relevant to program planning.

DATES: Wednesday, June 26, 2024, 9 a.m. to 3:30 p.m., central time.

ADDRESSES: Virtual meeting by dial-in teleconference and TEAMs Meeting only.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: This meeting will be available to the public online. Dial-in audio teleconference and webcast details to watch the meeting remotely will be available on the NASA Advisory Council Aeronautics Committee website at https://www.nasa.gov/nasa-advisory-council-aeronautics-committee/ or this link: https://teams.microsoft.com/l/meetup-join/19%3ameeting_OWU0ZDMxYjYtM2RmZC00ZjgwLTgwMzMtZTM1NDFhMDljZjA0%40thread.v2/0?context=%7b%22Tid%22%3a%227005d458-45be-48ae-8140-d43da96dd17b%22%2c%22Oid%22%3a%22199b2213-c413-40b3-b2e7-de758814c6ad%22%7d (Meeting ID: 251 881 783 386, Passcode: gYD5Po—case sensitive), Phone conference (US Toll) 256-715-9946,,585475256# (Phone conference ID: 585 475 256#). Enter the meeting as a guest and type your name and affiliation. NOTE: If dialing in, please “mute” your telephone.

The agenda for the meeting includes the following topics:

—NASA-Federal Aviation Administration (FAA) Coordination on Future of Advanced Air Mobility (AAM)

—Unmanned Aircraft Systems (UAS) Traffic Management (UTM) Beyond Visual Line of Sight (BVLOS)

—Sustainable Flight National Partnership Operations Demonstrations in North Texas

It is imperative that the meeting be held on these dates to the scheduling priorities of the key participants.

Carol J. Hamilton,
Acting Advisory Committee Management Officer, National Aeronautics and Space Administration.

[FR Doc. 2024-13006 Filed 6-12-24; 8:45 am]

BILLING CODE 7510-13-P